Title 3—

The President

Presidential Determination No. 2006-26 of September 29, 2006

Presidential Determination on Drawdown of Commodities and Services from the Department of Defense to Support Transport of Indonesian Peacekeeping Forces to Lebanon

Memorandum for the Secretary of State [and the] Secretary of Defense

Pursuant to the authority vested in me by the Constitution and laws of the United States, including section 552(c)(2) of the Foreign Assistance Act of 1961, as amended, I hereby determine that:

(1) as a result of an unforeseen emergency, the provision of assistance under Chapter 6 of Part II of the Act in amounts in excess of funds otherwise available for such assistance is important to the national interests of the United States; and

(2) such unforeseen emergency requires the immediate provision of assistance under Chapter 6 of Part II of the Act.

I, therefore, direct the drawdown of up to $2,999,000 in commodities and services from the Department of Defense to support the transportation of Indonesian forces in support of the United Nations Interim Force in Lebanon.

The Secretary of State is authorized and directed to report this determination to the Congress and to publish it in the Federal Register.

B

THE WHITE HOUSE,

Washington, September 29, 2006.

[FR Doc. 06-9118

Filed 11-6-06; 8:45 am]

Billing code 4710-10-P